DEPARTMENT OF TRANSPORTATION

National Highway Traffic Safety Administration

[Docket No. NHTSA-2013-0074]

Decision That Certain Nonconforming Motor Vehicles Are Eligible for Importation

AGENCY: National Highway Traffic Safety Administration, DOT.

ACTION: Grant of petitions.

SUMMARY: This document announces decisions by NHTSA that certain motor vehicles not originally manufactured to comply with all applicable Federal Motor Vehicle Safety Standards (FMVSS) are eligible for importation into the United States because they are substantially similar to vehicles originally manufactured for sale in the United States and certified by their manufacturers as complying with the safety standards, and they are capable of being readily altered to conform to the standards or because they have safety features that comply with, or are capable of being altered to comply with, all applicable FMVSS.

DATES: These decisions became effective on the dates specified in Annex A.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and/or sale in the United States, certified under 49 U.S.C. 30115, and of the same model year as the model of the motor vehicle to be compared, and is capable of being readily altered to conform to all applicable FMVSS.

Where there is no substantially similar U.S.-certified motor vehicle, 49 U.S.C. 30141(a)(1)(B) permits a nonconforming motor vehicle to be admitted into the United States if its safety features comply with, or are capable of being altered to comply with, all applicable FMVSS based on destructive test data or such other evidence as NHTSA decides to be adequate.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

NHTSA received petitions from registered importers to decide whether the vehicles listed in Annex A to this notice are eligible for importation into the United States. To afford an opportunity for public comment, NHTSA published notice of these petitions as specified in Annex A. The reader is referred to those notices for a thorough description of the petitions.

Comments: No substantive comments were received in response to 16 of the 17 petitions identified in Appendix A. In response to the remaining petition, which covers 2004 model year Ford F-150 Crew Cab trucks that were manufactured for the Mexican Market (Docket No NHTSA-2012-0162), the Ford Motor Company stated in pertinent part:

Vehicles that are designed and manufactured for export to markets outside of the United States are not necessarily tested for compliance to all FMVSS requirements, unless the particular export markets have entirely equivalent safety standards. Therefore, Ford can neither confirm nor deny that a 2004 F-150 Crew Cab manufactured for sale in the Mexican Market would have complied with FMVSS No. 208 at the time it was manufactured.

The petitioner, Mesa Auto Wholesalers, responded in pertinent part:

We at Mesa auto wholesalers have carefully looked at both a 2004 Ford F-150 that was sold for the American market and the subject vehicle, in our research we discovered that both vehicles were exactly the same and therefore conformed to the standard FMVSS No. 208 both units had factory installed airbags and seatbelts for all seating positions including outward and center seat positions in both the front seat and the rear seat.

NHTSA believes this response fully addresses the comment. The agency also notes that the comment lacks sufficient specificity to provide a basis for the denial of the petition.

NHTSA Decision: Accordingly, on the basis of the foregoing, NHTSA hereby decides that each motor vehicle listed in Annex A to this notice, which was not originally manufactured to comply with all applicable FMVSS, is either substantially similar to a motor vehicle manufactured for importation into and/or sale in the United States, and certified under 49 U.S.C. 30115, as specified in Annex A, and is capable of being readily altered to conform to all applicable FMVSS or has safety features that comply with, or are capable of being altered to comply with, all applicable Federal Motor Vehicle Safety Standards.

Vehicle Eligibility Number For Subject Vehicles: The importer of a vehicle admissible under any final decision must indicate on the form HS-7 accompanying entry the appropriate vehicle eligibility number indicating that the vehicle is eligible for entry. Vehicle eligibility numbers assigned to vehicles admissible under this decision are specified in Annex A.

Authority: 49 U.S.C. 30141(a)(1)(A), (a)(1)(B) and (b)(1); 49 CFR 593.7; delegations of authority at 49 CFR 1.50 and 501.7.

Issued on: July 2, 2013.
Claude H. Harris,
Director, Office of Vehicle Safety Compliance.

Annex A—Nonconforming Motor Vehicles Decided To Be Eligible for Importation

1. Docket No. NHTSA-2013-0032

Nonconforming Vehicles: 2005, 2006 & 2007 BMW 5 Series Passenger Cars Manufactured before September 1, 2006

Substantially Similar U.S. Certified Vehicles: 2005, 2006 & 2007 BMW 5 Series Passenger Cars Manufactured before September 1, 2006

Notice of Petition

Published at: 78 FR 24463 (April 25, 2013)

Vehicle Eligibility Number: VSP-555 (effective date June 7, 2013)

2. Docket No. NHTSA-2013-0031

Nonconforming Vehicles: 1991 Volkswagen Transporter Multipurpose Passenger Vehicles

Substantially Similar U.S. Certified Vehicles: 1991 Volkswagen Transporter Multipurpose Passenger Vehicles

Notice of Petition

Published at: 78 FR 22944 (April 17, 2013)

Vehicle Eligibility Number: VSP-554 (effective date June 7, 2013)

3. Docket No. NHTSA-2013-0022

Nonconforming Vehicles: 2010 BMW Z4 Passenger Cars

Substantially Similar U.S. Certified Vehicles: 2010 BMW Z4 Passenger Cars

Notice of Petition

Published at: 78 FR 20385 (April 4, 2013)

Vehicle Eligibility Number: VSP-553 (effective date May 28, 2013)

4. Docket No. NHTSA-2013-0015

Nonconforming Vehicles: 2012 Porsche GT3 RS Passenger Cars

Substantially Similar U.S. Certified Vehicles: 2012 Porsche GT3 RS Passenger Cars

Notice of Petition

Published at: 78 FR 20386 (April 4, 2013)

Vehicle Eligibility Number: VSP-552 (effective date May 21, 2013)

5. Docket No. NHTSA-2012-0164

Nonconforming Vehicles: 2007 Ford Escape Multipurpose Passenger Vehicles Manufactured for the Mexican Market

Substantially Similar U.S. Certified Vehicles: Ford Escape Multipurpose Passenger Vehicles

Notice of Petition

Published at: 78 FR 20388 (April 4, 2013)

Vehicle Eligibility Number: VSP-551 (effective date May 20, 2013)

6. Docket No. NHTSA-2013-0016

Nonconforming Vehicles: 1992, 1993 & 1994 BMW 3 Series Passenger Cars

Substantially Similar U.S. Certified Vehicles: 1992, 1993 & 1994 BMW 3 Series Passenger Cars

Notice of Petition

Published at: 78 FR 19364 (March 29, 2013)

Vehicle Eligibility Number: VSP-550 (effective date May 6, 2013)

7. Docket No. NHTSA-2013-0012

Nonconforming Vehicles: 2005 Mercedes-Benz G Class (463 chassis) Long-Wheelbase (LWB) Multipurpose Passenger Vehicles

Substantially Similar U.S. Certified Vehicles: 2005 Mercedes-Benz G Class (463 chassis) Long-Wheelbase (LWB) Multipurpose Passenger Vehicles

Notice of Petition

Published at: 78 FR 10686 (February 14, 2013)

Vehicle Eligibility Number: VSP-549 (effective date April 22, 2013)

8. Docket No. NHTSA-2012-0162

Nonconforming Vehicles: 2004 Ford F-150 Crew Cab Trucks Manufactured for the Mexican Market

Substantially Similar U.S. Certified Vehicles: 2004 Ford F-150 Crew Cab Trucks

Notice of Petition

Published at: 78 FR 13754 (February 28, 2013)

Vehicle Eligibility Number: VSP-548 (effective date April 17, 2013)

9. Docket No. NHTSA-2012-0161

Nonconforming Vehicles: 2003 Jeep Wrangler Multipurpose Passenger Vehicles Manufactured for the Mexican Market

Substantially Similar U.S. Certified Vehicles: 2003 Jeep Wrangler Multipurpose Passenger Vehicles

Notice of Petition

Published at: 78 FR 13755 (February 28, 2013)

Vehicle Eligibility Number: VSP-547 (effective date April 17, 2013)

10. Docket No. NHTSA-2013-0014

Nonconforming Vehicles: 1992 Porsche Carrera (964 Series) Passenger Cars

Substantially Similar U.S. Certified Vehicles: 1992 Porsche Carrera (964 Series) Passenger Cars

Notice of Petition

Published at: 78 FR 10687 (February 14, 2013)

Vehicle Eligibility Number: VSP-546 (effective date March 26, 2013)

11. Docket No. NHTSA-2012-0163

Nonconforming Vehicles: 2005 Ferrari 612 Scaglietti Passenger Cars

Substantially Similar U.S. Certified Vehicles: 2005 Ferrari 612 Scaglietti Passenger Cars

Notice of Petition

Published at: 77 FR 76599 (December 28, 2012)

Vehicle Eligibility Number: VSP-545 (effective date February 12, 2013)

12. Docket No. NHTSA-2012-0151

Nonconforming Vehicles: 2007 Chevrolet Corvette Passenger Cars

Substantially Similar U.S. Certified Vehicles: 2007 Chevrolet Corvette Passenger Cars

Notice of Petition

Published at: 77 FR 69539 (November 19, 2012)

Vehicle Eligibility Number: VSP-544 (effective date January 16, 2013)

13. Docket No. NHTSA-2012-0150

Nonconforming Vehicles: 2009 Porsche Cayenne S Multipurpose Passenger Vehicles

Substantially Similar U.S. Certified Vehicles: 2009 Porsche Cayenne S Multipurpose Passenger Vehicles

Notice of Petition

Published at: 77 FR 67732 (November 13, 2012)

Vehicle Eligibility Number: VSP-543 (effective date January 16, 2013)

14. Docket No. NHTSA-2012-0160

Nonconforming Vehicles: 2009 Porsche 911 (997) Passenger Cars

Substantially Similar U.S. Certified Vehicles: 2009 Porsche 911 (997) passenger cars

Notice of Petition

Published at: 77 FR 70541 (November 26, 2012)

Vehicle Eligibility Number: VSP-542 (effective date January 16, 2013)

15. Docket No. NHTSA-2012-0095

Nonconforming Vehicles: 2005 Chevrolet Suburban Multipurpose Passenger Vehicles

Substantially Similar U.S. Certified Vehicles: 2005 Chevrolet Suburban Multipurpose Passenger Vehicles

Notice of Petition

Published at: 77 FR 46803 (August 6, 2012)

Vehicle Eligibility Number: VSP-541 (effective date November 27, 2012)

16. Docket No. NHTSA-2013-0035

Nonconforming Vehicles: 2011 Thule 3008 BL Boat Trailer

Because there are no substantially similar U.S.-certified version 2011 Thule 3008 BL Boat Trailer the petitioner sought import eligibility under 49 U.S.C. 30141(a)(1)(B).

Notice of Petition:

Published at: 78 FR 24464 (April 25, 2013)

Vehicle Eligibility Number: VCP-52 (effective date June 7, 2013)

17. Docket No. NHTSA-2012-0148

Nonconforming Vehicles: 1991 Mercedes-Benz G Class (463 chassis) Multipurpose Passenger Vehicles

Because there are no substantially similar U.S.-certified version 1991 Mercedes-Benz G Class (463 chassis) Multipurpose Passenger Vehicles the petitioner sought import eligibility under 49 U.S.C. 30141(a)(1)(B).

Notice of Petition

Published at: 77 FR 65444 (October 26, 2012)

Vehicle Eligibility Number: VCP-51 (effective date December 11, 2012)

[FR Doc. 2013-16792 Filed 7-12-13; 8:45 am]

BILLING CODE 4910-59-P